DEPARTMENT OF ENERGY

Federal Energy Regulatory Commission

[Docket No. EL01-94-000]

Rumford Power Associates, LP, Complainant, v. Central Maine Power Company, Respondent; Notice of Complaint

June 21, 2001.

Take notice that on June 20, 2001, Rumford Power Associates, L.P. (Rumford) filed a complaint pursuant to Section 206 of the Federal Power Act against Central Maine Power Company (CMP) requesting that the Commission issue an order: (1) Directing CMP to issue a Final Cost Report for the facilities constructed under the Rumford Interconnection Agreement, and refund to Rumford certain monies collected thereunder without authorization; (2) finding that CMP's non-capital cost carrying charges, calculated under CMP's Open Access Transmission Tariff (OATT), are unjust and unreasonable and should, therefore, be summarily modified or set for hearing to determine just and reasonable rates; and (3) requiring CMP to charge Rumford the “Control Center Services” charge under Schedule 1 of CMP's OATT, as elected by Rumford, instead of CMP's local “Scheduling, System Control and Dispatch Service” charge.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before July 10, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before July 10, 2001.

Comments, protests and interventions may be filed electronically via the internet in lieu of paper. See, 18 CFR 385.2001(a)(1)(iii) and the instructions on the Commission's web site at http://www.ferc.fed.us/efi/doorbell.htm.

David P. Boergers,
Secretary.

[FR Doc. 01-16061 Filed 6-26-01; 8:45 am]

BILLING CODE 6717-01-M